DEPARTMENT OF TRANSPORTATION

Federal Aviation Administration

Notice of Submission Deadline for Schedule Information for O'Hare International Airport, John F. Kennedy International Airport, and Newark Liberty International Airport for the Summer 2010 Scheduling Season

AGENCY: Department of Transportation, Federal Aviation Administration (FAA).

ACTION: Notice of submission deadline.

SUMMARY: Under this notice, the FAA announces the submission deadline of October 15, 2009, for Summer 2010 flight schedules at Chicago's O'Hare International Airport (ORD), New York's John F. Kennedy International Airport (JFK), and Newark Liberty International Airport (EWR) in accordance with the International Air Transport Association (IATA) Worldwide Scheduling Guidelines. The deadline of October 15, 2009, coincides with the schedule submission deadline for the IATA Schedules Conference for the Summer 2010 scheduling season.

SUPPLEMENTARY INFORMATION: The FAA has designated ORD as an IATA Level 2, Schedules Facilitated Airport, and JFK and EWR as Level 3, Coordinated Airports. The scheduled operations at JFK and EWR are currently limited by the FAA through orders that the FAA expects will continue to be in effect for the Summer 2010 scheduling season.¹

¹ Order Limiting Scheduled Operations at John F. Kennedy International Airport, 73 FR 3,510 (Jan. 18, 2008); 73 FR 8,737 (Feb. 14, 2008) (amendment to order). Order Limiting Scheduled Operations at Newark Liberty International Airport, 73 Fed. Reg. 29550 (May 21, 2008).

The FAA is primarily concerned about planned operations during peak hours, but carriers may submit schedule plans for the entire day. At ORD, the peak hours are 7 a.m. to 9 p.m. Central Daylight Time (1200-0200 UTC) and at EWR and JFK from 6 a.m. to 11 p.m. Eastern Daylight Time (1000-0300 UTC). Schedule information should include all planned commercial operations including passenger, charter, and cargo flights. Carriers must submit schedule information in sufficient detail to include at minimum, the operating carrier, flight number, scheduled time of operation, frequency, and effective dates. The FAA encourages the use of IATA standard schedule information format and data elements in the IATA Standard Schedules Information Manual.

The U.S. summer scheduling season for these airports is from March 28, 2010, through October 30, 2010, in recognition of the IATA scheduling season dates. The FAA understands there may be differences from other nations' schedule season dates due to different U.S. daylight saving time rules. The FAA will accommodate these differences to the extent that it is possible.

JFK will have runway and airfield construction during the Summer 2010 scheduling season. As a result, the primary departure runway 13R/31L will be unavailable from March 1 until July 1, and it will not be fully available until mid-November. During this time, the FAA will use alternative runway configurations and procedures in order to reduce congestion and delays; however, there will be operational impacts and additional delays under certain conditions. During spring and early summer, the closure of Runway 13R/31L is expected to result in year-over-year delay increases. Modeling suggests that peak hour spring delays will be similar to historic August levels. Regular meetings are being held to plan for the construction and mitigation efforts. These meetings include the FAA, the Port Authority of New York and New Jersey, JFK air carrier representatives, and other stakeholders.

In light of reduced airport capacity during the Summer 2010 scheduling season, the FAA anticipates allocating Operating Authorizations only for historic operations during peak hours. Carriers seeking to initiate new peak-hour service at JFK should consider their alternatives or should utilize the secondary market to obtain Operating Authorizations from other carriers.

DATES: Schedules must be submitted no later than October 15, 2009.

ADDRESSES: Schedules may be submitted by mail to the Slot Administration Office, AGC-240, Office of the Chief Counsel, 800 Independence Ave., SW., Washington, DC 20591; facsimile: 202-267-7277; ARINC: DCAYAXD; or by e-mail to: 7-AWA-slotadmin@faa.gov.

FOR FURTHER INFORMATION CONTACT: James Tegtmeier, Associate Chief Counsel for the Air Traffic Organization, Office of the Chief Counsel, AGC-40, Federal Aviation Administration, 800 Independence Avenue, SW., Washington, DC 20591; telephone number: 202-267-8323; fax number: 202-267-7971; e-mail: james.tegtmeier@faa.gov.

Issued in Washington, DC on September 29, 2009.
Rebecca B. MacPherson,
Assistant Chief Counsel for Regulations.

[FR Doc. E9-23892 Filed 10-2-09; 8:45 am]

BILLING CODE 4910-13-P